DEPARTMENT OF COMMERCE

Bureau of Industry and Security

License Exception TMP: Special Requirements

ACTION: Extension of a currently approved collection: Request for Comments.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 17, 2006.

ADDRESSES: Direct all written comments to Diana Hynek, Departmental Paperwork Clearance Officer, Department of Commerce, Room 6625, 14th and Constitution Avenue, NW., Washington DC 20230, (or via the Internet at DHynek@doc.gov.).

FOR FURTHER INFORMATION CONTACT: Requests for additional information or copies of the information collection instrument(s) and instructions should be directed to Larry Hall, BIS ICB Liaison, Department of Commerce, Room 6622, 14th & Constitution Avenue, NW., Washington, DC, 20230.

SUPPLEMENTARY INFORMATION:

I. Abstract

License Exception TMP of the Export Administration Regulations (15 CFR 740.8) authorizes temporary (not more than one year) exports and reexports of some commodities and software in some situations in which a license otherwise would be required. Information not covered by any other approved collection is obtained from the public in two situations covered by this collection. The first situation is when the exporter or reexporter wishes to keep the commodities or software abroad for more than one year. In such instances, the exporter or reexporter must submit an application for an extension (up to six months) or to convert the transaction to a permanent export or reexport. The second situation occurs when members of the news media wish to use TMP as authorization to take items that otherwise would require a license to destinations in Country Groups D:1 or E:2 or Sudan (See 15 CFR part 740, Supp. No. 1 for the constituents of each country group). In this situation, the exporter or reexporter must submit a copy of the packing list or similar information to BIS before the export or reexport.

II. Method of Collection

The information will be submitted in paper form.

III. Data

OMB Number: 0694-0029.

Form Number: N/A.

Type of Review: Extension of a currently approved collection.

Affected Public: Individuals, businesses or other for-profit and not-for-profit institutions.

Estimated Number of Respondents: 3.

Estimated Time per Response: 20 minutes per response.

Estimated Total Annual Burden Hours: 1 hour.

Estimated Total Annual Cost: No start-up capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. In addition, the public is encouraged to provide suggestions on how to reduce and/or consolidate the current frequency of reporting.

Comments submitted in response to this notice will be summarized and/or included in the request for OMB approval of this information collection; they will also become a matter of public record.

Dated: September 13, 2006.
Madeleine Clayton
Management Analyst, Office of the Chief Information Officer.

[FR Doc. E6-15466 Filed 9-15-06; 8:45 am]

BILLING CODE 3510-DT-P